ENVIRONMENTAL PROTECTION AGENCY

[EPA-HQ-OARM-2011-0748; FRL-9922-61-OARM]

Proposed Information Collection Request; Comment Request; Monthly Progress Reports (Renewal)

AGENCY: Environmental Protection Agency (EPA).

ACTION: Notice.

SUMMARY: The Environmental Protection Agency is planning to submit an information collection request (ICR), “Monthly Progress Reports (Renewal)” to the Office of Management and Budget (OMB) for review and approval in accordance with the Paperwork Reduction Act. Before doing so, EPA is soliciting public comments on specific aspects of the proposed information collection as described below. This is a proposed extension of the ICR, which is currently approved through May 31, 2015. An Agency may not conduct or sponsor and a person is not required to respond to a collection of information unless it displays a currently valid OMB control number.

DATES: Comments must be submitted on or before April 7, 2015.

ADDRESSES: Submit your comments, referencing Docket ID No. EPA-HQ-OARM-2011-0748, online using http://www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Thomas Valentino, Policy Training and Oversight Division, Office of Acquisition Management, (3802R), Environmental Protection Agency, 1200 Pennsylvania Ave. NW., Washington, DC 20460; telephone number: 202-564-4522; email address: valentino.thomas@epa.gov.

SUPPLEMENTARY INFORMATION: Supporting documents which explain in detail the information that the EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This notice is a proposed extension of EPA ICR No. 1039.14, OMB Control No. 2030-0005, which is approved through May 31, 2015. Appropriate Government surveillance of contractor performance is required to give reasonable assurance that efficient methods and effective cost controls are being used for various cost-reimbursable and fixed-rate contracts. Per 48 CFR 1552.211 regulations, on a monthly basis, the Agency requires contractors to provide the Contracting Officer's Representative (COR) with a report detailing: (a) What was accomplished on the contract for that period, (b) expenditures for the same period of time, and (c) what is expected to be accomplished on the contract for the next month. Responses to the information collection are mandatory for contractors and are required for the contractors to receive monthly payments.

Form numbers: 1900-68.

Respondents/affected entities: Private sector.

Respondent's obligation to respond: Mandatory per 48 CFR 1552.211.

Estimated number of respondents: 203.

Frequency of response: Monthly.

Total estimated burden: 60,900 hours (per year). Burden is defined at 5 CFR 1320.03(b).

Total estimated cost: $5,391,258 (per year), includes $0 annualized capital or operation & maintenance costs.

Changes in estimates: Please note: the revised estimates and burden numbers are included in the Supporting Statement that will be added to Docket ID No. EPA-HQ-OARM-2011-0748 for public review and comment. There may be a decrease in the number of hours in total estimated respondent burden down from 60,900 hours, as collection activities may decrease with improved tracking software and overall efficiency.

Dated: January 28, 2015.
John R. Bashista,
Director, Office of Acquisition Management.

[FR Doc. 2015-02459 Filed 2-5-15; 8:45 am]

BILLING CODE 6560-50-P